DEPARTMENT OF LABOR

Agency Information Collection Activities; Submission for OMB Review; Comment Request; Evaluation of Strategies Used in TechHire and Strengthening Working Families Initiative (SWFI) Grant Programs

AGENCY: Office of the Assistant Secretary for Policy, Chief Evaluation Office, Department of Labor.

ACTION: Notice of information collection; request for comment.

SUMMARY: The Department of Labor (DOL), as part of its continuing effort to reduce paperwork and respondent burden, conducts a preclearance consultation program to provide the general public and Federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents is properly assessed.

Currently, DOL is soliciting comments concerning the collection of data about the Evaluation of Strategies Used in TechHire and SWFI Grant Programs. A copy of the proposed Information Collection Request (ICR) can be obtained by contacting the office listed below in the addressee section of this notice.

DATES: Written comments must be submitted to the office listed in the addressee section below on or before April 24, 2018.

ADDRESSES: You may submit comments by either one of the following methods:

Email: ChiefEvaluationOffice@dol.gov; Mail or Courier: Christina Yancey, Chief Evaluation Office, OASP, U.S. Department of Labor, Room S-2312, 200 Constitution Avenue NW, Washington, DC 20210. Instructions: Please submit one copy of your comments by only one method. All submissions received must include the agency name and OMB Control Number identified above for this information collection. Comments, including any personal information provided, become a matter of public record. They will also be summarized and/or included in the request for OMB approval of the information collection request.

FOR FURTHER INFORMATION CONTACT: Christina Yancey by email at ChiefEvaluationOffice@dol.gov.

SUPPLEMENTARY INFORMATION:

I. Background

The Chief Evaluation Office (CEO), in collaboration with the Employment and Training Administration (ETA), of DOL seeks to build evidence about effective approaches to prepare Americans with skills and connect them to well-paying, middle- and high-skilled, and high growth jobs in H-lB industries (such as IT, healthcare, advanced manufacturing, financial services, and broadband). There is a particular interest in learning about approaches to serving populations and individuals who have traditionally faced barriers to training and employment opportunities such as youth and young adults, parents with childcare needs, individuals with disabilities, individuals with limited English proficiency, and individuals with criminal records. The evaluation will advance the evidence on innovative approaches being used to meet these goals in the TechHire Partnership (TechHire) and Strengthening Working Families Initiative (SWFI) grant programs. The evaluation will include two components, an implementation study and an impact study.

The goal of the impact study is to provide rigorous evidence on the effectiveness of strategies used in the TechHire and SFWI grant programs. The impact study will consist of both a randomized controlled trial (RCT) and a quasi-experimental design (QED) evaluation. Approximately five grantees will be selected to participate in an RCT. The QED will include all 53 TechHire and SWFI grantees and use the pooled RCT control group as the comparison group using propensity score matching. The QED will collect data from an existing wage record data. It will also use data from the implementation study (described below) in an effort to analyze how variation in program impacts correlates with implementation factors.

A key goal of the implementation study is to provide systematic information on all of the grantees and link the findings to impacts. For all 53 grantees, the implementation study will review grantee applications, conduct web-based surveys with grantees and partners, and conduct semi-structured telephone interviews with grantees and partners. Additionally, for the grantees in the RCT, the implementation study will include two rounds of field visits involving a mix of observations, interviews, and case file reviews. This will provide critical context for understanding the impact findings from the RCT.

In January 2018, OMB approved the baseline data collection for this evaluation (OMB 1290-0014), which includes a baseline information form (BIF), a 6-month follow-up participant survey, a participant tracking form, and a first round of site visit interviews. This Federal Register Notice provides the opportunity to comment on the following proposed data collection instruments that will be used in the implementation component of the evaluation:

* Grantee Survey. The survey will be administered to all 53 TechHire and SWFI grantees in 2018. The purpose of the survey is to collect uniform information on implementation status and a variety of program characteristics to support implementation analysis of the grant programs.

* Partner Contact Information Form. Contact information and level of involvement for each partner will be collected from grantees in a partner contact information form. This information will be used to build the list of partners and their contact information for the partner survey.

* Partner Survey. The survey will be administered to all partners of all 53 TechHire and SWFI grantees in 2018. The survey will explore the strength of relationships between the partners in the TechHire and SWFI grant programs. The survey will collect information on partner roles and responsibilities, sustainability plans, and implementation challenges and lessons learned.

* Telephone Interview With Grantees. Within approximately 6 months after the grantee survey, the evaluation team will conduct semi-structured telephone interviews with each grantee. The protocol will be used to learn about challenges, successes, and barriers to implementation that are difficult to obtain using a survey.

* Telephone Interview With Partners. Within approximately 6 months after the partner survey, the evaluation team will conduct semi-structured telephone interviews partners of a subset of grantees. The protocol will be used to learn about the degree of engagement and successful strategies that are difficult to obtain using a survey.

* Site Visit Interviews for Second Round of Site Visits. During a second round of implementation site visits to the grantees in the RCT, the evaluation team will conduct in-depth interviews with program staff and partners. The site visit interview guide will collect information on implementation status, changes in implementation during random assignment, and degree of coordination. The site visit interview guide will be modular and collect information based on the grantee and/or partner staff knowledge and role.

II. Desired Focus of Comments

Currently, DOL is soliciting comments concerning the above data collection for the Evaluation of Strategies Use in the TechHire and SWFI programs. DOL is particularly interested in comments that do the following:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology—for example, permitting electronic submission of responses.

III. Current Actions

At this time, DOL is requesting clearance for the implementation site visit protocols, the focus group protocols, and a grantee survey. A future information collection request will include an 18-month participant follow-up survey.

Type of Review: New information collection request.

OMB Control Number: 1290—0NEW.

Affected Public: TechHire and SWFI grantees and partners.

Estimated Burden Hours
Information collection | Total number of respondents | Annual number of respondents | Number of responses per respondent | Average burden time per response (hours) | Estimated annual burden hours
Grantee survey | 53 | 18 | 1 | 1 | 18
Grantee telephone interview ᵃ | 159 | 53 | 1 | 1 | 53
Partner contact information form | 53 | 18 | 1 | 1 | 18
Partner survey ᵇ | 960 | 320 | 1 | .5 | 160
Partner telephone interview ᶜ | 106 | 35 | 1 | 1 | 35
Site visit interview guide for second round of site visits ᵈ | 90 | 30 | 1 | 1 | 30
Total | 1,421 | 474 |  |  | 314
ᵃ Assumes 53 grantees and 3 respondents per grantee for (53 × 3) = 159 total respondents and (159/3) = 53 annual respondents.
ᵇ Assumes 1,200 partners and an 80 percent response rate for (1,200/.80) = 960 total respondents and (960/3) = 320 annual respondents.
ᶜ Assumes 53 partners and 2 respondents per partner for (53 × 2) = 106 total respondents and (53/2) = 35.33 annual respondents.
ᵈ Assumes 5 grantees and 10 grantee staff and 8 partner staff for each grantee for (5 × (10 + 8)) = 90 total respondents and (90/3) = 30 annual respondents.

Comments submitted in response to this request will be summarized and/or included in the request for Office of Management and Budget approval of the information collection request; they will also become a matter of public record.

Dated: February 16, 2018.
Molly Irwin,
Chief Evaluation Officer, U.S. Department of Labor.

[FR Doc. 2018-03762 Filed 2-22-18; 8:45 am]

BILLING CODE 4510-HX-P